Title 3—

The President

Proclamation 7275 of February 22, 2000

Registration Under the Military Selective Service Act

By the President of the United States of America

A Proclamation

Section 3 of the Military Selective Service Act, as amended (50 U.S.C. App. 453), provides that male citizens of the United States and other male persons residing in the United States who are between the ages of 18 and 26, except those exempted by sections 3 and 6(a) of the Military Selective Service Act, must present themselves for registration at such time or times and place or places, and in such manner as determined by the President. Section 6(k) provides that such exceptions shall not continue after the cause for the exemption ceases to exist.

NOW, THEREFORE, I, WILLIAM J. CLINTON, President of the United States of America, by the authority vested in me by the Military Selective Service Act, as amended (50 U.S.C. App. 451 et seq.), do hereby proclaim as follows:

Section 1. Paragraph 1-201 of Proclamation 4771 of July 2, 1980, is amended to read:

“1-2. Places and Times for Registration.

1-201. Persons who are required to be registered and who are in the United States shall register at the places and by the means designated by the Director of Selective Service. These places and means may include but are not limited to any classified United States Post Office, the Selective Service Internet web site, telephonic registration, registration on approved Government forms, registration through high school and college registrars, and the Selective Service reminder mailback card.”

Sec. 2. Paragraph 1-202 of Proclamation 4771 of July 2, 1980, is amended to read:

“1-202. Citizens of the United States who are required to be registered and who are not in the United States, shall register via any of the places and methods authorized by the Director of Selective Service pursuant to paragraph 1-201 or present themselves at a United States Embassy or Consulate for registration before a diplomatic or consular officer of the United States or before a registrar duly appointed by a diplomatic or consular officer of the United States.”

IN WITNESS WHEREOF, I have hereunto set my hand this twenty-second day of February, in the year of our Lord two thousand, and of the Independence of the United States of America the two hundred and twenty-fourth.

wj

[FR Doc. 00-4559

Filed 2-23-00; 8:45 am]

Billing code 3195-01-P